DEPARTMENT OF COMMERCE

National Oceanic and Atmospheric Administration

50 CFR Part 679

[Docket No. 011218304-1304-01; I.D. 121701A]

RIN 0648-AQ02

Fisheries of the Exclusive Economic Zone Off Alaska; Steller Sea Lion Protection Measures for the Groundfish Fisheries Off Alaska; Final 2002 Harvest Specifications and Associated Management Measures for the Groundfish Fisheries Off Alaska

AGENCY: National Marine Fisheries Service (NMFS), National Oceanic and Atmospheric Administration (NOAA), Commerce.

ACTION: Extension of emergency interim rule; request for comments.

SUMMARY: On January 8, 2002, NMFS published an emergency interim rule, effective through July 8, 2002, that implemented Steller sea lion protection measures to avoid the likelihood that the groundfish fisheries off Alaska will jeopardize the continued existence of the western distinct population segment of Steller sea lions, or adversely modify its critical habitat. The emergency interim rule also implemented 2002 harvest specifications for the groundfish fisheries off Alaska. This action extends the emergency interim rule through December 31, 2002. This emergency action is necessary to continue to implement Steller sea lion protection measures until completion of notice and comment rulemaking and to continue implementation of 2002 harvest specifications for the remainder of the 2002 fishing year.

DATES: The expiration date of the emergency interim rule published January 8, 2002 (67 FR 956), and amended and corrected May 1, 2002 (67 FR 21600) is extended through December 31, 2002. Comments must be received by June 14, 2002.

ADDRESSES: Comments may be sent to Sue Salveson, Assistant Regional Administrator, Sustainable Fisheries Division, Alaska Region, NMFS, P.O. Box 21668, Juneau, AK, 99802, Attn: Lori Gravel-Durall, or delivered to room 401 of the Federal Building, 709 West 9th Street, Juneau, AK. Comments will not be accepted if submitted via e-mail or Internet. Copies of the Supplemental Environmental Impact Statement on Steller Sea Lion Protection Measures in the Federal groundfish fisheries off Alaska (SEIS), including the 2001 biological opinion (BiOp), and the Environmental Assessment (EA) for the Total Allowable Catch for the Year 2002 Alaska Groundfish Fisheries may be obtained from the same address. The SEIS and EA are also available on the NMFS Alaska Region home page at http://www.fakr.noaa.gov.

FOR FURTHER INFORMATION CONTACT: Melanie Brown, 907-586-7228 or melanie.brown@noaa.gov.

SUPPLEMENTARY INFORMATION: Under Section 7 of the Endangered Species Act, NMFS issued a biological opinion (BiOp) dated October 19, 2001, on the pollock, Atka mackerel, and Pacific cod fisheries of the Bering Sea and Aleutian Islands management area (BSAI) and Gulf of Alaska (GOA) (see ADDRESSES). The BiOp concluded that the BSAI and GOA pollock, Atka mackerel, and Pacific cod fisheries, as prosecuted with the Steller sea lion protection measures, were not likely to jeopardize the continued existence of the western distinct population segment of Steller sea lions, nor adversely modify its critical habitat. The Steller sea lion protection measures accomplish three basic principles: (1) temporal dispersion of fishing effort, (2) spatial dispersion of fishing effort, and (3) groundfish fishing restrictions around Steller sea lion rookeries and haulouts.

NMFS published an emergency interim rule implementing the Steller sea lion protection measures and 2002 harvest specifications in the Federal Register on January 8, 2002 (67 FR 956), amended on May 1, 2002 (67 FR 21600), and this rule is effective through July 8, 2002.

At its April 2002 meeting, the North Pacific Fishery Management Council (Council) voted to recommend extension of the emergency interim rule. The preamble to the original emergency interim rule provides a detailed description of the purpose and need for the action and the 2002 harvest specifications. This action extends the expiration date of the emergency interim rule establishing Steller sea lion protection measures and 2002 harvest specifications (67 FR 956, January 8, 2002 and amended 67 FR 21600, May 1, 2002) from July 8, 2002, through December 31, 2002.

NMFS intends to complete proposed and final rulemaking later in 2002 to permanently implement Steller sea lion protection measures, as recommended by the Council at its October 2001 meeting. This extension of an emergency interim rule is necessary to prosecute the remainder of the 2002 groundfish fisheries with Steller sea lion protection measures after July 8, 2002.

Details concerning the basis for this action and the classification of the rulemaking are contained in the initial emergency rule and are not repeated here. Comments received regarding the January 8, 2002, emergency interim rule will be responded to in the proposed rulemaking for Steller sea lion protection measures.

The reasons justifying promulgation of the emergency interim rule on an emergency basis also make it impracticable and contrary to the public interest to provide notice and opportunity for comment on, or to delay for 30 days, the effective date of this emergency interim rule extension, under the applicable provisions of the Administrative Procedure Act, 5 U.S.C. 553(b) and (d).

Authority: 16 U.S.C. 773 et seq., 1801 et seq, and 3631 et seq

Dated: May 10, 2002.
William T. Hogarth,
Assistant Administrator for Fisheries, National Marine Fisheries Service

[FR Doc. 02-12278 Filed 5-15-02; 8:45 am]

BILLING CODE 3510-22-S